DEPARTMENT OF ENERGY

Federal Energy Regulatory Commission

Combined Notice of Filings

Take notice that the Commission has received the following Natural Gas Pipeline Rate and Refund Report filings:

Filings Instituting Proceedings

Docket Numbers: RP19-1594-001.

Applicants: Algonquin Gas Transmission, LLC.

Description: Compliance filing AGT 2019 OFO Penalty Disbursement Report—Updated to be effective N/A.

Filed Date: 10/03/19.

Accession Number: 20191003-5156.

Comment Date: 5:00 p.m. ET 10/10/19.

Docket Numbers: RP20-1-000.

Applicants: Transcontinental Gas Pipe Line Company.

Description: § 4(d) Rate Filing: 2019 LNG Fuel Tracker Filing to be effective 11/1/2019.

Filed Date: 10/1/19.

Accession Number: 20191001-5005.

Comments Due: 5 p.m. ET 10/15/19.

Docket Numbers: RP20-10-000.

Applicants: Natural Gas Pipeline Company of America.

Description: § 4(d) Rate Filing: Amendment to a Negotiated Rate Agreement—Macquarie to be effective 10/1/2019.

Filed Date: 10/1/19.

Accession Number: 20191001-5019.

Comments Due: 5 p.m. ET 10/15/19.

Docket Numbers: RP20-11-000.

Applicants: Texas Gas Transmission, LLC.

Description: § 4(d) Rate Filing: 2019 Fuel Tracker Filing to be effective 11/1/2019.

Filed Date: 10/1/19.

Accession Number: 20191001-5027.

Comments Due: 5 p.m. ET 10/15/19.

Docket Numbers: RP20-12-000.

Applicants: Kern River Gas Transmission Company.

Description: § 4(d) Rate Filing: 2019 Salt Cove Meters to be effective 10/31/2019.

Filed Date: 10/1/19.

Accession Number: 20191001-5099.

Comments Due: 5 p.m. ET 10/15/19.

Docket Numbers: RP20-13-000.

Applicants: Mississippi Hub, LLC.

Description: Annual Penalty Disbursement Report of Mississippi Hub, LLC under RP19-13.

Filed Date: 10/1/19.

Accession Number: 20191001-5101.

Comments Due: 5 p.m. ET 10/15/19.

Docket Numbers: RP20-14-000.

Applicants: Cheniere Creole Trail Pipeline, L.P.

Description: § 4(d) Rate Filing: TRA—November 2019 to be effective 11/1/2019.

Filed Date: 10/1/19.

Accession Number: 20191001-5117.

Comments Due: 5 p.m. ET 10/15/19.

Docket Numbers: RP20-15-000.

Applicants: Cheniere Corpus Christi Pipeline, LP.

Description: § 4(d) Rate Filing: TRA—November 2019 to be effective 11/1/2019.

Filed Date: 10/1/19.

Accession Number: 20191001-5118.

Comments Due: 5 p.m. ET 10/15/19.

Docket Numbers: RP20-16-000.

Applicants: Viking Gas Transmission Company.

Description: § 4(d) Rate Filing: Semi-Annual Fuel and Losses Retention Adjustment—Winter 2019 Rate to be effective 11/1/2019.

Filed Date: 10/1/19.

Accession Number: 20191001-5119.

Comments Due: 5 p.m. ET 10/15/19.

Docket Numbers: RP20-17-000.

Applicants: Cheniere Corpus Christi Pipeline, LP.

Description: § 4(d) Rate Filing: Out-Of-Cycle Electric Power Cost (EPC) to be effective 11/1/2019.

Filed Date: 10/1/19.

Accession Number: 20191001-5126.

Comments Due: 5 p.m. ET 10/15/19.

Docket Numbers: RP20-18-000.

Applicants: WBI Energy Transmission, Inc.

Description: Annual Penalty Credit Revenue Report of WBI Energy Transmission, Inc. under RP20-18.

Filed Date: 10/1/19.

Accession Number: 20191001-5142.

Comments Due: 5 p.m. ET 10/15/19.

Docket Numbers: RP20-19-000.

Applicants: Midwestern Gas Transmission Company.

Description: § 4(d) Rate Filing: Update Summary of Non-Conforming Agreements to be effective 11/1/2019.

Filed Date: 10/1/19.

Accession Number: 20191001-5149.

Comments Due: 5 p.m. ET 10/15/19.

Docket Numbers: RP20-2-000.

Applicants: ANR Pipeline Company.

Description: § 4(d) Rate Filing: ANR WISE NC and NR Agreements to be effective 11/1/2019.

Filed Date: 10/1/19.

Accession Number: 20191001-5006.

Comments Due: 5 p.m. ET 10/15/19.

Docket Numbers: RP20-20-000.

Applicants: Guardian Pipeline, L.L.C.

Description: § 4(d) Rate Filing: EPCR Semi-Annual Adjustment—Fall 2019 to be effective 11/1/2019.

Filed Date: 10/1/19.

Accession Number: 20191001-5150.

Comments Due: 5 p.m. ET 10/15/19.

Docket Numbers: RP20-21-000.

Applicants: Wyoming Interstate Company, L.L.C.

Description: § 4(d) Rate Filing: Negotiated Rate Agreement Filing (#215883-FTWIC Castleton Commodities) to be effective 11/1/2019.

Filed Date: 10/1/19.

Accession Number: 20191001-5155.

Comments Due: 5 p.m. ET 10/15/19.

Docket Numbers: RP20-22-000.

Applicants: ANR Pipeline Company.

Description: § 4(d) Rate Filing: ANR Transporter's Use Backhaul Revision to be effective 11/1/2019.

Filed Date: 10/1/19.

Accession Number: 20191001-5157.

Comments Due: 5 p.m. ET 10/15/19.

Docket Numbers: RP20-23-000.

Applicants: Stingray Pipeline Company, L.L.C.

Description: Tariff Cancellation: Stingray Filing to Cancel Fourth Revised Volume No. 1 to be effective 11/1/2019.

Filed Date: 10/1/19.

Accession Number: 20191001-5162.

Comments Due: 5 p.m. ET 10/15/19.

Docket Numbers: RP20-24-000.

Applicants: Guardian Pipeline, L.L.C.

Description: § 4(d) Rate Filing: Transporter Use Gas Annual Adjustment—Fall 2019 to be effective 11/1/2019.

Filed Date: 10/1/19.

Accession Number: 20191001-5167.

Comments Due: 5 p.m. ET 10/15/19.

Docket Numbers: RP20-25-000.

Applicants: Tuscarora Gas Transmission Company.

Description: § 4(d) Rate Filing: Fuel Mechanism Modifications to be effective 11/1/2019.

Filed Date: 10/1/19.

Accession Number: 20191001-5177.

Comments Due: 5 p.m. ET 10/15/19.

Docket Numbers: RP20-26-000.

Applicants: Viking Gas Transmission Company.

Description: § 4(d) Rate Filing: Update Non-Conforming Agreements AF0022, AF0025, and AF0063 to be effective 11/1/2019.

Filed Date: 10/1/19.

Accession Number: 20191001-5179.

Comments Due: 5 p.m. ET 10/15/19.

Docket Numbers: RP20-27-000.

Applicants: Stingray Pipeline Company, L.L.C.

Description: Compliance filing Baseline Fifth Revised Volume No. 1 to be effective 11/1/2019.

Filed Date: 10/1/19.

Accession Number: 20191001-5193.

Comments Due: 5 p.m. ET 10/15/19.

Docket Numbers: RP20-28-000.

Applicants: El Paso Natural Gas Company, L.L.C.

Description: § 4(d) Rate Filing: Non-Conforming Agreements Filing (Atmos) to be effective 11/1/2019.

Filed Date: 10/1/19.

Accession Number: 20191001-5215.

Comments Due: 5 p.m. ET 10/15/19.

Docket Numbers: RP20-29-000.

Applicants: Cimarron River Pipeline, LLC.

Description: § 4(d) Rate Filing: Fuel Tracker 2019—Winter Season Rates to be effective 11/1/2019.

Filed Date: 10/1/19.

Accession Number: 20191001-5216.

Comments Due: 5 p.m. ET 10/15/19.

Docket Numbers: RP20-3-000.

Applicants: Columbia Gas Transmission, LLC.

Description: § 4(d) Rate Filing: TCO International Paper NC Amendment to be effective 11/1/2019.

Filed Date: 10/1/19.

Accession Number: 20191001-5007.

Comments Due: 5 p.m. ET 10/15/19.

Docket Numbers: RP20-30-000.

Applicants: Dominion Energy Questar Pipeline, LLC.

Description: § 4(d) Rate Filing: Revisions to Rate Schedule NNT (No-Notice Transporation Service) to be effective 11/1/2019.

Filed Date: 10/1/19.

Accession Number: 20191001-5231.

Comments Due: 5 p.m. ET 10/15/19.

Docket Numbers: RP20-31-000.

Applicants: Tennessee Gas Pipeline Company, L.L.C.

Description: § 4(d) Rate Filing: Auto PAL Tariff Changes to be effective 11/1/2019.

Filed Date: 10/1/19.

Accession Number: 20191001-5235.

Comments Due: 5 p.m. ET 10/15/19.

Docket Numbers: RP20-32-000.

Applicants: Tennessee Gas Pipeline Company, L.L.C.

Description: § 4(d) Rate Filing: Volume No. 2—Corpus Christi Liquefaction, LLC SP309057 Neg-Non Conf Amendment to be effective 11/1/2019.

Filed Date: 10/1/19.

Accession Number: 20191001-5276.

Comments Due: 5 p.m. ET 10/15/19.

Docket Numbers: RP20-33-000.

Applicants: Portland Natural Gas Transmission System.

Description: § 4(d) Rate Filing: PNGTS PXP Phase II Agreements to be effective 11/1/2019.

Filed Date: 10/1/19.

Accession Number: 20191001-5280.

Comments Due: 5 p.m. ET 10/15/19.

Docket Numbers: RP20-34-000.

Applicants: Northern Natural Gas Company.

Description: § 4(d) Rate Filing: 20191001 Negotiated Rate Filing to be effective 11/1/2019.

Filed Date: 10/1/19.

Accession Number: 20191001-5281.

Comments Due: 5 p.m. ET 10/15/19.

Docket Numbers: RP20-35-000.

Applicants: Northern Natural Gas Company.

Description: § 4(d) Rate Filing: 20191001 Negotiated Rate to be effective 10/2/2019.

Filed Date: 10/1/19.

Accession Number: 20191001-5283.

Comments Due: 5 p.m. ET 10/15/19.

Docket Numbers: RP20-36-000.

Applicants: Northwest Pipeline LLC.

Description: § 4(d) Rate Filing: Non-Conforming Service Agreements—Cascade, Intermountain & Puget to be effective 11/1/2019.

Filed Date: 10/1/19.

Accession Number: 20191001-5285.

Comments Due: 5 p.m. ET 10/15/19.

Docket Numbers: RP20-37-000.

Applicants: Guardian Pipeline, L.L.C.

Description: § 4(d) Rate Filing: Non-Conforming Agreements Wisconsin Gas & Wisconsin Electric to be effective 11/1/2019.

Filed Date: 10/1/19.

Accession Number: 20191001-5287.

Comments Due: 5 p.m. ET 10/15/19.

Docket Numbers: RP20-4-000.

Applicants: Algonquin Gas Transmission, LLC.

Description: § 4(d) Rate Filing: Negotiated Rates NJR contracts 511100 & 511101 to be effective 11/1/2019.

Filed Date: 10/1/19.

Accession Number: 20191001-5008.

Comments Due: 5 p.m. ET 10/15/19.

Docket Numbers: RP20-5-000.

Applicants: Algonquin Gas Transmission, LLC.

Description: § 4(d) Rate Filing: Negotiated Rates—Kaiser NEG Name Changes Cleanup to be effective 10/31/2019.

Filed Date: 10/1/19.

Accession Number: 20191001-5009.

Comments Due: 5 p.m. ET 10/15/19.

Docket Numbers: RP20-6-000.

Applicants: NEXUS Gas Transmission, LLC.

Description: § 4(d) Rate Filing: Negotiated Rates—Oct 2019 Cleanup to be effective 10/31/2019.

Filed Date: 10/1/19.

Accession Number: 20191001-5010.

Comments Due: 5 p.m. ET 10/15/19.

Docket Numbers: RP20-7-000.

Applicants: Alliance Pipeline L.P.

Description: § 4(d) Rate Filing: APL 2019 Fuel Filing to be effective 11/1/2019.

Filed Date: 10/1/19.

Accession Number: 20191001-5012.

Comments Due: 5 p.m. ET 10/15/19.

Docket Numbers: RP20-8-000.

Applicants: Transcontinental Gas Pipe Line Company.

Description: § 4(d) Rate Filing: Negotiated Rates—Cherokee AGL—Replacement Shippers—Oct 2019 to be effective 10/1/2019.

Filed Date: 10/1/19.

Accession Number: 20191001-5015.

Comments Due: 5 p.m. ET 10/15/19.

Docket Numbers: RP20-9-000.

Applicants: Equitrans, L.P.

Description: § 4(d) Rate Filing: Negotiated Capacity Release Agreements—10/1/2019 to be effective 10/1/2019.

Filed Date: 10/1/19.

Accession Number: 20191001-5018.

Comments Due: 5 p.m. ET 10/15/19.

Docket Numbers: RP20-38-000.

Applicants: Iroquois Gas Transmission System, L.P.

Description: § 4(d) Rate Filing: 100219 GT&C—Operational Flow Order Tariff Revisions to be effective 11/1/2019.

Filed Date: 10/2/19.

Accession Number: 20191002-5009.

Comments Due: 5 p.m. ET 10/15/19.

Docket Numbers: RP20-39-000.

Applicants: Gulf South Pipeline Company, LP.

Description: § 4(d) Rate Filing: Cap Rel Neg Rate Agmt (Constellation 51554 to Exelon 51616) to be effective 10/1/2019.

Filed Date: 10/2/19.

Accession Number: 20191002-5073.

Comments Due: 5 p.m. ET 10/15/19.

Docket Numbers: RP20-40-000.

Applicants: Texas Eastern Transmission, LP.

Description: § 4(d) Rate Filing: Negotiated Rate—MC Gloabal to CIMA 8959637 eff 10-3-19 to be effective 10/3/2019.

Filed Date: 10/2/19.

Accession Number: 20191002-5157.

Comments Due: 5 p.m. ET 10/15/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 4, 2019.
Nathaniel J. Davis, Sr.,
Deputy Secretary.

[FR Doc. 2019-22177 Filed 10-9-19; 8:45 am]

BILLING CODE 6717-01-P